DEPARTMENT OF AGRICULTURE

Food Safety and Inspection Service

[Docket No. 00-004N]

DEPARTMENT OF HEALTH AND HUMAN SERVICES

Food and Drug Administration

[Docket No. 00N-0597]

Codex Alimentarius: Meeting of the Codex Committee on General Principles, Organization for Economic Cooperation and Development: Meeting of the Ad Hoc Group on Food Safety

AGENCIES: Food Safety and Inspection Service, USDA; Food and Drug Administration, HHS.

ACTION: Notice; public meeting and request for comments.

SUMMARY: The Office of Food Safety, and the Food Safety and Inspection Service (FSIS), U.S. Department of Agriculture (USDA); and the Food and Drug Administration (FDA), U.S. Department of Health and Human Services (HHS), are sponsoring a public meeting on March 22, 2000, to provide information and receive public comments on agenda items that will be discussed at the Fourteenth Session of the Codex Committee on General Principles, April 10-14, 2000, and to provide information and receive public comments on papers submitted and issues to be discussed at the Second Session of the Organization for Economic Cooperation and Development (OECD) Ad Hoc Group on Food Safety, scheduled for March 27-28, 2000. Both groups are scheduled to meet in Paris, France. The co-sponsors of the March 22nd public meeting recognize the importance of providing interested parties the opportunity to obtain background information on the General Principles Committee of the Codex Alimentarius Commission (CAC), and the Ad Hoc Task Force on Food Safety of the OECD, and to address issues coming before those bodies.

DATES: The public meeting is scheduled for Wednesday, March 22, 2000, from 1:00 p.m. to 5:00 p.m. Comments must be received by April 24, 2000.

ADDRESSES: The public meeting will be held in the Madison Room, Washington Plaza Hotel, 10 Thomas Circle, Massachusetts Avenue and 14th Street, NW, Washington, DC, 20005. Copies of the documents listed in the notice will be available for inspection at the office of the FSIS Docket Clerk, U.S. Department of Agriculture, Food Safety and Inspection Service, Room 102, Cotton Annex, 300 12th Street, SW, Washington, DC 20250-3700, or the Dockets Management Branch (HFA-305), Food and Drug Administration, 5630 Fishers Lane, rm. 1061, Rockville, MD 20852. The Codex documents will also be accessible via the World Wide Web at the following address: http://www.fao.org/waicent/faoinfo/economic/esn/codex/ccgp15/gp00 01e.htm. Copies of the United States' submission to the OECD compendium of national food safety systems will be available on the Internet at http://vm.cfsan.fda.gov/~dms/fs-toc.html on approximately March 1, 2000. Send an original and two copies of comments to: FSIS Docket Clerk, Docket #00-004N, U.S. Department of Agriculture, Food Safety and Inspection Service, Room 102, Cotton Annex, 300 12th Street, SW, Washington, DC 20250-3700 or FDA/Dockets Management Branch (HFA-305), 5630 Fishers Lane, Rm. 1601, Rockville, MD 20852. All comments submitted in response to this notice will be available for public inspection in the Docket Clerk's Office between 8:30 a.m. and 4:30 p.m., Monday through Friday.

FOR FURTHER INFORMATION CONTACT: Patrick J. Clerkin, Associate U.S. Manager for Codex, U.S. Codex Office, Food Safety and Inspection Service, Room 4861, South Building, 1400 Independence Avenue SW, Washington, DC, 20250; Telephone: (202) 205-7760; Fax: (202) 720-3157; or, for the OECD Ad Hoc Working Group on Food Safety, Lois Ann Beaver, Office of International Programs, FDA, 5600 Fishers Lane, 15A16, Rockville, MD 20852; Telephone: (301) 827-4480; Fax: (301) 443-0235. Persons requiring a sign language interpreter or other special accommodations should notify Patrick J. Clerkin, telephone (202) 205-7760; Fax: (202) 720-3157.

SUPPLEMENTARY INFORMATION:

Background

Codex Committee on General Principles

Codex was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled. In the United States, USDA, FDA, and the Environmental Protection Agency (EPA) manage and carry out U.S. Codex activities.

The Codex Committee on General Principles was established to deal with such procedural and general matters as are referred to by the Codex Alimentarius Commission. Such matters have included the establishment of the general principles that define the purpose and scope of the Codex Alimentarius, the nature of Codex standards and the forms of acceptance by countries of Codex standards, and the development of guidelines for Codex committees.

Codex Issues To Be Discussed at the Public Meeting

(1) Matters referred by the Codex Alimentarius Commission and other Codex Committees; Document: CX/GP 00/2

(2) Risk Analysis

• Working Principles for Risk Analysis; Documents: CL1999/16GP, CX/GP 00/3, Government comments CX/GP00/3-Add.1

• Food Safety Objectives; Document: CX/GP 00/4

(3) Measures intended to facilitate consensus; Document: CX/GP 00/5

(4) Composition of the Executive Committee and related matters; Document: CX/GP 00/6

(5) Review of the Statements of Principle on the Role of Science and the Extent to which Other Factors are taken into account; Documents: CX/GP 00/7 Role of science and other factors in relation to risk analysis

(6) Revision of the Code of Ethics for International Trade in Foods; Documents: CL 1999/19-GP, CX/GP 00/8, Government comments CX/GP00/8-Add.1

(7) Consumer Participation in Codex Work and related matters; Documents: CX/GP 00/9, Government comments, CX/GP00/9-Add.1

OECD Ad Hoc Group on Food Safety

The Ad Hoc Group on Food Safety convened for its first session January 24-25, 2000, in Paris at the Organization for Economic Cooperation and Development. This group was established by the OECD Council late last year in response to the request for reports on biotechnology and other aspects of food safety issued by the G-8 (Group of 7 largest economies in the world: US, Japan, Germany, France, UK, Italy, Canada and Russia) after its June 1999 Summit in Cologne. The Ad Hoc Group on Food Safety was formed to develop a report on national food safety systems, including how controversial issues related to biotechnology and other aspects of food safety are managed, and a report based on submissions from international organizations involved in food safety. These reports, in the form of compendia, as well as reports from the OECD Working Group on Harmonization of Regulatory Oversight in Biotechnology and the OECD Task Force on Novel Foods and Feeds will be submitted to the G-8 in advance of the July, 2000, Summit in Okinawa.

On November 18, 1999, the OECD Council agreed that the mandate for the Ad Hoc Group on Food Safety, was to: (1) Supervise the compilation of a compendium of international food safety systems; (2) compile a compendium of national food safety systems; and (3) provide a report to the Council on the results of its work. Operational guidance indicated that the final report to the OECD Council should reflect the views of member countries, not the Secretariat, identify food safety activities without evaluations or policy recommendations, be finished by the end of April, 2000, and be based on current information without undertaking new work.

Participants in the First Session of the Ad Hoc Group on Food Safety, which included 130 representatives from the 29 OECD member countries and five representatives from the EC Commission, with one Russian observer, met to design the program of work for the Ad Hoc Group on Food Safety. Representatives of WHO, FAO and WTO were also present as observers. The US delegation was co-led by USDA Undersecretary for Food Safety Catherine Woteki and FDA Commissioner Jane Henney, Deputy Commissioner Sharon Smith Holston, Robert Lake, and Lois Ann Beaver from FDA, Sally McCammon from USDA and Richard White from EPA. Members of the US Mission to the OECD present during the session included Ambassador Bondurant, Gary Larson, Peter O. Thomas and Breck Milroy.

To guide its activities, the Ad Hoc Group elected a Bureau Chaired by E. Wermuth, The Netherlands, with USDA Undersecretary Woteki and K. Tomita, Japan, as Vice-Chairs.

The Ad Hoc group adopted a program of work under which:

(1) Countries would submit reports for a compendium of national food safety systems that would identify what is being done to address current and emerging food safety issues. The national reports should be 5-10 pages in length, include factual information, and have a one-page synthesis identifying key principles, changes, and areas of continuing development, and an optional annex. Food quality, availability and costs, animal welfare and biodiversity were cited as emerging issues. It was agreed that member countries might address in their national reports how such non-scientific concerns are treated in national decision-making processes in the national reports. As envisaged by the Terms of Reference, the “precautionary approach and principles” will be addressed by member countries in their reports and in optional annexes of relevant references. Under the guidance of the Bureau, the Secretariat will present the information received on the precautionary approach and principles in a structured manner to the Second Session of the Ad Hoc Group on Food Safety.

(2) Selected international organizations (the World Health Organization, the Food and Agriculture Organization of the United Nations, the Office of International Epizootics, the World Trade Organization and the OECD) would contribute to a compendium of international food safety activities.

The Draft reports from OECD members and from international organizations are due to the OECD Secretariat by the end of February, 2000, in preparation for the Ad Hoc Group's second session, scheduled for March 27-28.

The time-frame for completion of the work of the Ad Hoc Group on Food Safety is very short. Participants agreed that the two compendia should be in suitable form by the end of April 2000 for transmittal, via the OECD Council, to the G-8.

The program of work described above, and the US' submission to the compendium of national food safety systems will be discussed at the public meeting.

Additional Public Notification

Public awareness of all segments of rulemaking and policy development is important. Consequently, in an effort to better ensure that minorities, women, and persons with disabilities are aware of this meeting notice, FSIS will announce it and provide copies of this Federal Register publication in the FSIS Constituent Update. FSIS provides a weekly FSIS Constituent Update, which is communicated via fax to over 300 organizations and individuals. In addition, the update is available on line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC on: February 24, 2000.
Patrick J. Clerkin,
Associate U.S. Manager for Codex Alimentarius.
Margaret M. Dotzel,
Acting Associate Commissioner for Policy.

[FR Doc. 00-4849 Filed 2-29-00; 8:45 am]

BILLING CODE FSIS 3410-DM-P; FDA 4160-01-P